DEPARTMENT OF ENERGY

Federal Energy Regulatory Commission

[Docket No. RP02-53-000]

Overthrust Pipeline Company; Notice of Tariff Filing

November 27, 2001.

Take notice that on November 19, 2001, Overthrust Pipeline Company (Overthrust) tendered for filing as part of its FERC Gas Tariff, Original Volume No. 1 the following tariff sheets to be effective December 19, 2001:

Sixth Revised Sheet No. 3

Fifth Revised Sheet No. 5

Overthrust is proposing to modify its tariff for two separate cleanup purposes as described below:

1. Overthrust states that on March 24, 2000, Questar Pipeline Company bought Enron Overthrust Pipeline Company's (Enron) interest in the Overthrust partnership resulting in Enron's removal from the general partnership, effective January 1, 2000.

2. Natural Gas Pipeline Company of America permanently released capacity to Duke Energy Trading & Marketing, LLC, effective November 1, 1998.

Overthrust states that this filing reflects these changes. Overthrust states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29864 Filed 11-30-01; 8:45 am]

BILLING CODE 6717-01-P